DEPARTMENT OF STATE

[Public Notice: 12828]

Specially Designated Global Terrorist Designation of Barrio 18

Acting under the authority of and in accordance with section 1(a)(ii)(A) of Executive Order 13224, as amended (“E.O. 13224” or “Order”), I hereby determine that the person known as Barrio 18 (also known as Calle 18, The Revolutionaries, Sureños) is a foreign person who has committed or has attempted to commit, poses a significant risk of committing, or has participated in training to commit acts of terrorism that threaten the security of U.S. nationals or the national security, foreign policy, or economy of the United States.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This determination shall be published in the Federal Register.

Dated: September 11, 2025.
Marco Rubio,
Secretary of State.

[FR Doc. 2025-18492 Filed 9-23-25; 8:45 am]

BILLING CODE 4710-AD-P